NUCLEAR REGULATORY COMMISSION

[NRC-2019-0045]

Information Collection: Survey of NRC Materials Licensees To Support Rulemaking for NRC's Small Entity Size Standards

AGENCY: Nuclear Regulatory Commission.

ACTION: Notice of submission to the Office of Management and Budget; request for comment.

SUMMARY: The U.S. Nuclear Regulatory Commission (NRC) has recently submitted a proposed collection of information to the Office of Management and Budget (OMB) for review. The information collection is entitled, “Survey of NRC Materials Licensees to Support Rulemaking for NRC's Small Entity Size Standards.”

DATES: Submit comments by July 29, 2019.

ADDRESSES: Submit comments directly to the OMB reviewer at: OMB Office of Information and Regulatory Affairs (3150-XXXX), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2019-0045 when contacting the NRC about the availability of information for this action. You may obtain publicly-available information related to this action by any of the following methods:

• Federal Rulemaking Website: Go to http://www.regulations.gov and search for Docket ID NRC-2019-0045. A copy of the collection of information and related instructions may be obtained without charge by accessing Docket ID NRC-2019-0045 on this website.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession ML19058A132. The supporting statement and title of the document is “Survey of NRC Materials Licensees to Support Rulemaking for NRC's Small Entity Size Standards,” is available in ADAMS under Accession No. ML19112A078.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

In accordance with the provisions of the Paperwork Reduction Act of 1995 (44 U.S.C. chapter 35), the NRC recently submitted a proposed collection of information to OMB for review entitled, “Survey of NRC Materials Licensees to Support Rulemaking for NRC's Small Entity Size Standards.” The NRC hereby informs potential respondents that an agency may not conduct or sponsor, and that a person is not required to respond to, a collection of information unless it displays a currently valid OMB control number.

The NRC published a Federal Register notice with a 60-day comment period on this information collection on March 20, 2019 (84 FR 54).

1. The title of the information collection: Survey of NRC materials licensees to support rulemaking for NRC's small entity size standards.

2. OMB approval number: An OMB control number has not yet been assigned to this proposed information collection.

3. Type of submission: New.

4. The form number if applicable: Not applicable.

5. How often the collection is required or requested: Once.

6. Who will be required or asked to respond: Current materials users' licensees.

7. The estimated number of annual responses: 461.

8. The estimated number of annual respondents: 461.

9. An estimate of the total number of hours needed annually to comply with the information collection requirement or request: 152 hours.

10. Abstract: The NRC has its own standards for categorizing small business size entities that are noted in section 2.810 of title 10 of the Code of Federal Regulations, “NRC size standards.” The agency's standards differ from those used by the Small Business Administration (SBA) because it is difficult to align NRC licensees with SBA size standards and the Omnibus Budget Reconciliations Act of 1990 requirement for NRC to recover 90 percent of the annual budget through fees. Since the agency has not surveyed its materials licensees since 1993, the staff will conduct a survey to gather financial data to determine if a change to the size standards is needed. Without conducting a survey, the NRC staff does not have the data needed to determine the impact of shifting from the current nuclear industry-specific standards. The results of the analysis will be used to provide a recommendation to the Commission that is backed with sound empirical data.

Dated at Rockville, Maryland, this 21st day of June 2019.
For the Nuclear Regulatory Commission.
David C. Cullison,
NRC Clearance Officer, Office of the Chief Information Officer.

[FR Doc. 2019-13659 Filed 6-26-19; 8:45 am]

BILLING CODE 7590-01-P